DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Wage Mariner Hiring Portal (WMHP)

OMB Control Number: 0648-xxxx.

Form Number(s): None.

Type of Request: Regular submission (new collection).

Number of Respondents: 1,000 estimated per year.

Average Time per Response: 1 hour.

Burden Hours: 1,000 hours.

Needs and Uses: The Wage Mariner Hiring Portal (WMHP) system is used to facilitate federal wage mariner employees. The WMHP is an internet-based system (website) that is designed to allow an applicant to apply for a “wage mariner” position within the National Oceanic and Atmospheric Administration (NOAA) fleet of maritime vessels. The WMHP system collects basic user information, wage mariner licensing, certifications, and relevant current and or past work history. Applicants fill out basic personal, licensure, and work history information into a profile resume. Once their basic profile is complete, applicants can submit this resume to available wage mariner positions as shown on the WMHP website. Application information includes: First and last name, contact number and email address, wage mariner licenses and certifications, relevant work history.

Affected Public: Any public citizen that is interested and intent on applying for position as a NOAA federal wage mariner employee.

Frequency: Once per applicant.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Department PRA Clearance Officer, Office of the Chief Information Officer, Commerce Department.

[FR Doc. 2020-03460 Filed 2-20-20; 8:45 am]

BILLING CODE 3510-22-P